DEPARTMENT OF COMMERCE

International Trade Administration

[A-549-813]

Canned Pineapple Fruit from Thailand: Extension of Time Limit for Preliminary Results of Antidumping Duty New Shipper Review

AGENCY: Import Administration, International Trade Administration, U.S. Department of Commerce.

EFFECTIVE DATE: August 15, 2007.

FOR FURTHER INFORMATION CONTACT: Myrna Lobo, Office of AD/CVD Operations 6, Import Administration, International Trade Administration, U.S. Department of Commerce, 14th Street and Constitution Avenue, NW, Washington, DC 20230; telephone: (202) 482-2371.

SUPPLEMENTARY INFORMATION:

Background

On March 1, 2007, the Department of Commerce (the Department) published in the Federal Register the notice of initiation of a new shipper review of the antidumping duty order on canned pineapple fruit from Thailand for C&A Products Co., Ltd. (C&A). See Canned Pineapple Fruit from Thailand: Initiation of New Shipper Antidumping Duty Review, 72 FR 9305 (March 1, 2007). The period of review is July 1, 2006 through December 31, 2006.

Extension of Time Limit for Preliminary Results

Section 751(a)(2)(B)(iv) of the Tariff Act of 1930, as amended (the Act), and 19 CFR 351.214(i)(1) of the Department's regulations normally require the Department to issue the preliminary results of a new shipper review within 180 days after the date on which the new shipper review was initiated and final results within 90 days after the date on which the preliminary results were issued. The Department may, however, extend the time period for completion of the preliminary results of a new shipper review to 300 days if it determines that the case is extraordinarily complicated. See section 751(a)(2)(B)(iv) of the Act and 19 CFR 351.214(i)(2).

The Department has determined that this review is extraordinarily complicated, as the Department requires additional time to evaluate petitioner's (Maui Pineapple Company Ltd.) cost allegation and to review responses. Based on the further analysis required, the preliminary results of this new shipper review cannot be completed within the statutory time limit of 180 days. Accordingly, the Department is extending the time limit for the completion of the preliminary results of the new shipper review of C&A to 300 days. See section 751(a)(2)(B)(iv) of the Act and 19 CFR 351.214(i)(2). The preliminary results will now be due no later than December 19, 2007. The final results will be due 90 days after the date of issuance of the preliminary results, unless extended.

This notice is issued and published pursuant to sections 751(a)(2)(B)(iv) and 777(i)(1) of the Act.

Dated: August 9, 2007.
Stephen J. Claeys,
Deputy Assistant Secretary for Import Administration.

[FR Doc. E7-16007 Filed 8-14-07; 8:45 am]

BILLING CODE 3510-DS-S